DEPARTMENT OF DEFENSE

GENERAL SERVICES ADMINISTRATION

NATIONAL AERONAUTICS AND SPACE ADMINISTRATION

48 CFR Parts 2, 4, 7, 9, 13, 18, 25, 26, and 52

[FAC 2005-55; FAR Case 2011-021; Item II; Docket 2011-0021, Sequence 1]

RIN 9000-AM14

Federal Acquisition Regulation; Transition to the System for Award Management (SAM)

AGENCIES: Department of Defense (DoD), General Services Administration (GSA), and National Aeronautics and Space Administration (NASA).

ACTION: Final rule.

SUMMARY: DoD, GSA, and NASA are issuing a final rule amending the Federal Acquisition Regulation (FAR) to update certain definitions and clauses pertaining to three procurement systems included in the Integrated Acquisition Environment—the Central Contractor Registration database, the Excluded Parties List System, and the Online Representations and Certifications Application. These three Integrated Acquisition Environment systems and the Disaster Response Registry will now be accessed through a single Web site.

DATES: Effective Date: February 2, 2012.

FOR FURTHER INFORMATION CONTACT: Mr. Edward Loeb, Procurement Analyst, at (202) 501-0650, for clarification of content. For information pertaining to status or publication schedules, contact the Regulatory Secretariat at (202) 501-4755. Please cite FAC 2005-55, FAR Case 2011-021.

SUPPLEMENTARY INFORMATION:

I. Background

The Integrated Acquisition Environment (IAE) is an electronic-Government initiative. The IAE is aggregating disparate Federal acquisition content, which is currently housed in numerous online systems, by providing one Web site for regulations, systems, resources, opportunities, and training. The Web site at https://www.acquisition.gov was designed to create an easily navigable resource that is both more efficient and transparent.

The transition of the IAE to the new System for Award Management (SAM) architecture has begun. This effort will transition the Central Contractor Registration (CCR) database, the Excluded Parties List System (EPLS), and the Online Representations and Certifications Application (ORCA) to the new architecture. This case provides the first step in updating the FAR for these changes, and it updates the Web addresses present in the FAR for these systems as being accessible through https://www.acquisition.gov. This rule also amends the FAR to provide for accessing the Disaster Response Registry through https://www.acquisition.gov. As the transition to SAM progresses, future FAR cases are anticipated to change the current names of the systems to SAM, as well as to begin the transition of the remaining IAE systems.

II. FAR Changes

This case makes the following administrative changes to the FAR:

• Deletes the definition at 2.101 for “business partner network,” which is no longer necessary in the SAM architecture.

• Deletes reference to “business partner network” at 4.1100, Scope, which is no longer necessary in the SAM architecture.

• Revises the relevant database references shown throughout the FAR, to show the new Web site address at https://www.acquisition.gov. Databases include the CCR, EPLS, ORCA, and Disaster Response Registry.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

The Regulatory Flexibility Act does not apply to this rule because this final rule does not constitute a significant FAR revision within the meaning of FAR 1.501-1 and 41 U.S.C. 1707 and does not require publication for public comment.

V. Paperwork Reduction Act

The final rule does not contain any information collection requirements that require the approval of the Office of Management and Budget under the Paperwork Reduction Act (44 U.S.C. chapter 35).

List of Subjects in 48 CFR Parts 2, 4, 7, 9, 13, 18, 25, 26, and 52

Government procurement.

Dated: December 21, 2011.
Laura Auletta,
Director, Office of Governmentwide Acquisition Policy, Office of Acquisition Policy, Office of Governmentwide Policy.

Therefore, DoD, GSA, and NASA amend 48 CFR parts 2, 4, 7, 9, 13, 18, 25, 26, and 52 as set forth below:

1. The authority citation for 48 CFR parts 2, 4, 7, 9, 13, 18, 25, 26, and 52 continues to read as follows:

Authority: 40 U.S.C. 121(c); 10 U.S.C. chapter 137; and 42 U.S.C. 2473(c).

PART 2—DEFINITIONS OF WORDS AND TERMS

2. Amend section 2.101, in paragraph (b)(2) by removing the definition “Business Partner Network (BPN)” and revising the definitions “Disaster Response Registry” and “Online Representations and Certifications Application (ORCA)” to read as follows:

2.101 Definitions.

* * * * *

Disaster Response Registry means a voluntary registry of contractors who are willing to perform debris removal, distribution of supplies, reconstruction, and other disaster or emergency relief activities established in accordance with 6 U.S.C. 796, Registry of Disaster Response Contractors. The Registry contains information on contractors who are willing to perform disaster or emergency relief activities within the United States and its outlying areas. The Registry is accessed via https://www.acquisition.gov and alternately through the FEMA Web site at http://www.fema.gov/business/index.shtm. (See 26.205.)

* * * * *

Online Representations and Certifications Application (ORCA) means the primary Government repository for contractor submitted representations and certifications required for the conduct of business with the Government. Access ORCA via https://www.acquisition.gov.

* * * * *

PART 4—ADMINISTRATIVE MATTERS

4.1100 [Amended]

3. Amend section 4.1100 by removing from the introductory text “, a part of the Business Partner Network (BPN)”.

4.1103 [Amended]

4. Amend section 4.1103 by removing from paragraph (a)(2)(i) “http://www.ccr.gov” and adding “https://www.acquisition.gov” in its place.

4.1104 [Amended]

5. Amend section 4.1104 by removing “at www.ccr.gov” and adding “via https://www.acquisition.gov” in its place.

4.1201 [Amended]

6. Amend section 4.1201 by removing from paragraph (a) “http://orca.bpn.gov” and adding “ORCA accessed via https://www.acquisition.gov” in its place.

PART 7—ACQUISITION PLANNING

7.103 [Amended]

7. Amend section 7.103 by removing from paragraph (y) “at www.ccr.gov” and adding “via https://www.acquisition.gov” in its place.

PART 9—CONTRACTOR QUALIFICATIONS

9.404 [Amended]

8. Amend section 9.404 by removing from paragraph (d) “at http://epls.gov” and adding “via https://www.acquisition.gov” in its place.

PART 13—SIMPLIFIED ACQUISITION PROCEDURES

13.102 [Amended]

9. Amend section 13.102 by removing from paragraph (a) “at http://www.ccr.gov” and adding “via https://www.acquisition.gov” in its place.

PART 18—EMERGENCY ACQUISITIONS

10. Revise section 18.102 to read as follows:

18.102 Central contractor registration.

Contractors are not required to be registered in the Central Contractor Registration (CCR) database for contracts awarded to support unusual and compelling needs or emergency acquisitions. (See 4.1102). However, contractors are required to register with CCR in order to gain access to the Disaster Response Registry. Contracting officers shall consult the Disaster Response Registry via https://www.acquisition.gov to determine the availability of contractors for debris removal, distribution of supplies, reconstruction, and other disaster or emergency relief activities inside the United States and outlying areas. (See 26.205).

PART 25—FOREIGN ACQUISITION

25.703-3 [Amended]

11. Amend section 25.703-3 in paragraph (a) by removing “at https://www.epls.gov” and adding “via https://www.acquisition.gov” in its place.

PART 26—OTHER SOCIOECONOMIC PROGRAMS

26.205 [Amended]

12. Amend section 26.205 by removing from paragraph (a) “at www.ccr.gov” and adding “via https://www.acquisition.gov” in its place; and by removing from paragraph (b) “on the CCR Web page” and adding “, which can be accessed via https://www.acquisition.gov.” in its place.

PART 52—SOLICITATION PROVISIONS AND CONTRACT CLAUSES

13. Amend section 52.204-7 by revising the date of the clause; and removing from paragraph (h) “the Internet at http://www.ccr.gov” and adding “CCR accessed through https://www.acquisition.gov” in its place. The revised text reads as follows:

52.204-7 Central Contractor Registration.

* * * * *

Central Contractor Registration (FEB 2012)

* * * * *

14. Amend section 52.204-8 by revising the date of the provision; and removing from paragraph (d) “at http://orca.bpn.gov” and adding “accessed through https://www.acquisition.gov” in its place. The revised text reads as follows:

52.204-8 Annual Representations and Certifications.

* * * * *

Annual Representations and Certifications (FEB 2012)

* * * * *

15. Amend section 52.204-10 by revising the date of the clause; and removing from paragraph (c)(2) “at http://www.ccr.gov” and adding “in the Central Contractor Registration (CCR) database via https://www.acquisition.gov” in its place. The revised text reads as follows:

52.204-10 Reporting Executive Compensation and First-Tier Subcontract Awards.

* * * * *

Reporting Executive Compensation and First-tier Subcontract Awards (FEB 2012)

* * * * *

16. Amend section 52.209-7 by revising the date of the provision; and removing from paragraph (d) “at http://www.ccr.gov” and adding “via https://www.acquisition.gov”. The revised text reads as follows:

52.209-7 Information Regarding Responsibility Matters.

* * * * *

Information Regarding Responsibility Matters (FEB 2012)

* * * * *

17. Amend section 52.209-9 by revising the date of the clause; and removing from paragraph (a) “at http://www.ccr.gov” and adding “via https://www.acquisition.gov” in its place. The revised text reads as follows:

52.209-9 Updates of Publicly Available Information Regarding Responsibility Matters.

* * * * *

Updates of Publicly Available Information Regarding Responsibility Matters (FEB 2012)

* * * * *

18. Amend section 52.212-1 by revising the date of the provision; and removing from paragraph (k) “the Internet at http://www.ccr.gov” and adding “the CCR database accessed through https://www.acquisition.gov” in its place. The revised text reads as follows:

52.212-1 Instructions to Offerors—Commercial Items.

* * * * *

Instructions to Offerors—Commercial Items (FEB 2012)

* * * * *

19. Amend section 52.212-3 by—

a. Revising the date of the provision;

b. Removing from the introductory paragraph “at http://orca.bpn.gov” and adding “via https://www.acquisition.gov;” in its place; and

c. Removing from paragraph (b)(2) “at http://orca.bpn.gov” and adding “accessed through https://www.acquisition.gov” in its place; and removing from the last paragraph the word “posted” and adding “posted electronically” in its place. The revised text reads as follows:

52.212-3 Offeror Representations and Certifications—Commercial Items.

* * * * *

Offeror Representations and Certifications—Commercial Items (FEB 2012)

* * * * *

20. Amend section 52.212-4 by revising the date of the clause; and removing from paragraph (t)(4) “via the Internet at http://www.ccr.gov” and adding “via CCR accessed through https://www.acquisition.gov” in its place. The revised text reads as follows:

52.212-4 Contract Terms and Conditions—Commercial Items.

* * * * *

Contract Terms and Conditions—Commercial Items (FEB 2012)

* * * * *

[FR Doc. 2011-33414 Filed 12-30-11; 8:45 am]

BILLING CODE 6820-EP-P